DEPARTMENT OF COMMERCE

National Oceanic and Atmospheric Administration

[Docket No. 060630184-6184-01]

Great Lakes Cooperative Institute

AGENCY: Office of Oceanic and Atmospheric Research, National Oceanic and Atmospheric Administration (NOAA), Department of Commerce.

ACTION: Notice of availability of funds.

SUMMARY: The Office of Oceanic and Atmospheric Research (OAR) invites applications for the establishment of a Great Lakes (GL) Cooperative Institute (CI). The Great Lakes are one of the Nation's most important aquatic resources from an economic, geographic, international, ecological, and societal perspective. U.S. support for Great Lakes activities is described in Executive Order 13340. Activities associated with the proposed Cooperative Institute will provide the necessary capabilities to complement NOAA's current and planned activities in the region in support of the 5-year Research Plan and the 20-year Research Vision. The CI will be regional in scope and will consist of a group of research institutions with expertise and capabilities in the NOAA priority areas. This institute will facilitate a long-term collaborative environment between NOAA and the recipients within which broad-based research, prototype development, and education and outreach capabilities that focus on the priorities in the Great Lakes region can be developed and sustained.

DATES: Proposals must be received by the OAR no later than 5 p.m., E.T., September 18, 2006. Proposals submitted after that date will not be considered.

ADDRESSES: Applicants are strongly encouraged to apply online through the Grants.gov Web site (http://www.grants.gov) but paper submissions are acceptable if Internet access is not available. If a hard copy application is submitted, the original and two unbound copies of the proposal should be included. Paper submissions should be sent to: NOAA, OAR, 1315 East West Highway, Room 11152, Silver Spring, Md. 20910 Attn: Dr. John Cortinas. No e-mail or facsimile proposal submissions will be accepted. The complete Federal funding opportunity announcement associated with this notice can be found at the Grants.gov Web site, http://www.grants.gov, and the NOAA Web site at http://www.nrc.noaa.gov/ci.

FOR FURTHER INFORMATION CONTACT: For a copy of the Federal funding opportunity announcement and/or application kit, access it at Grants.gov, via NOAA's Web site, or by contacting Dr. John Cortinas, 1315 East West Highway, Room 11152, Silver Spring, Md. 20910 telephone 301-713-9397 x 206. Facsimile: (301) 713-3515; e-mail: John.Cortinas@noaa.gov.

SUPPLEMENTARY INFORMATION:

Background

A CI is a NOAA-supported, non-federal organization that has established an outstanding research program in one or more areas that are relevant to the NOAA mission. CIs are established at research institutions that also have a strong education program with established graduate degree programs in NOAA-related sciences. The CI provides significant coordination of resources among all non-government partners and promotes the involvement of students and postdoctoral scientists in NOAA-funded research. The CI provides mutual benefits with value provided by all parties.

NOAA has identified the need to establish a CI to focus on scientific research associated with the Great Lakes region in support of NOAA's Strategic Plan, NOAA's 5-year Research Plan, and NOAA's 20-year Research Vision and a recent regional collaboration strategy in the Great Lakes, as ordered by Executive Order (EO) 13340. The EO has identified eight areas that must be addressed to restore and maintain the Great Lakes: Aquatic Invasions, Habitat/Species, Coastal Health, Sediments, Non-Point Sources, Toxic Pollutants, Indicators, and Sustainable Development. As a partner in the Great Lakes Regional Collaboration, the CI will also collaborate with NOAA to conduct research that will enable NOAA to develop tools, support the Great Lakes Observing System, and to assist in the protection and restoration of the Great Lakes.

The scope of NOAA's work in the Great Lakes exceeds that of the regional collaboration. NOAA has many congressional mandates ¹ that include issues such as impacts of climate change on Great Lakes ecosystems, protection of underwater cultural resources at NOAA's Thunder Bay National Marine Sanctuary, and providing information to assist in marine transportation such as forecasts of weather and sea conditions, navigational charting products, and water level information. Although NOAA's mission requires delivery of high quality products and services to the coastal community, the permanent Federal resources to conduct research that supports these activities are limited both in number of Federal personnel and the breadth and depth of disciplines available to address the complex problems facing the Great Lakes. A CI, which has access to the intellectual resources of universities in the Great Lakes’ basin, is essential to fulfill NOAA's research needs in meeting its complex Great Lakes mission.

¹ 33 U.S.C. 1268, 16 U.S.C. 1447b, 15 U.S.C. 1511, 16 U.S.C. 4741, 16 U.S.C. 4722, 16 U.S.C. 760e, 42 U.S.C. 7412, 15 U.S.C. 1525, 15 U.S.C. 1540, 15 U.S.C. 2901, 33 U.S.C. 2326b, 33 U.S.C. 2706, 42 U.S.C. 9607, 16 U.S.C. 1451 note, Great Lakes Water Quality Agreement of 1978—amended 1987, EO 13340, U.S. Ocean Action Plan and EO 13366.

Electronic Access: Applicants can access, download, and submit electronic grant applications, including the full funding opportunity announcement, for NOAA programs at the Grants.gov Web site: http://www.grants.gov. The closing date will be the same as for the paper submissions noted in this announcement. For applicants filing through Grants.gov, NOAA strongly recommends that you do not wait until the application deadline date to begin the application process through Grants.gov. Registration may take up to 10 business days. More details on how to apply are provided in the NOAA June 30, 2005 Federal Register Notice on “Availability of Grant Funds for Fiscal Year 2006”, which can be found at: http://www.Grants.gov or http://www.ago.noaa.gov/grants/funding.shtml.

Proposals submitted to the NOAA Cooperative Institute Program must include elements requested in the full Federal Funding Opportunity announcement on the grants.gov portal. Proposals, electronic or paper, should be no more than 75 pages (numbered) in length, excluding budget, investigators vitae, and all appendices. Federally mandated forms are not included within the page count. Facsimile transmissions and electronic mail submission of full proposals will not be accepted.

Funding Availability: NOAA expects that approximately $1-3M will be available for the CI in the first year of the award. Of this amount, at least $110,000 will be available for annual Task I base funding. Funding for subsequent years is expected to be constant throughout the period, depending on the quality of the research, the satisfactory progress in achieving the stated goals described in the proposal, continued relevance to program objectives, and the availability of funding.

Authorities: 15 U.S.C. 313, 15 U.S.C. 1540; 15 U.S.C. 2901 et. seq., 16 U.S.C. 753a, 33 U.S.C. 883d, 33 U.S.C. 1442, 49 U.S.C. 44720 (b), 118 Stat. 71 (January 23, 2004).

Catalog of Federal Domestic Assistance: 11.432, Office of Oceanic and Atmospheric Research (OAR) Joint and Cooperative Institutes.

Eligibility: Eligibility is limited to non-federal public and private non-profit universities, colleges and research institutions that offer accredited graduate level degree-granting programs in NOAA-related sciences.

Cost Sharing Requirements: To stress the collaborative nature and investment of a CI by both NOAA and the research institution, cost sharing is required. There is no minimum cost sharing requirement, however, the amount of cost sharing will be considered when determining the level of CI commitment under NOAA's standard evaluation criteria for overall qualification of applicants. Acceptable cost-sharing proposals include, but are not limited to, offering a reduced indirect cost rate against activities in one or more Tasks, waiver of indirect costs assessed against base funds and/or Task I activities, waiver or reduction of any costs associated with the use of facilities at the CI, and full or partial salary funding for the CI director, administrative staff, graduate students, visiting scientists, or postdoctoral scientists.

Intergovernmental Review: Applications under this program are not subject to Executive Order 12372, “Intergovernmental Review of Federal Programs.”

Evaluation Criteria and Review and Selection Procedures: NOAA's standard evaluation criteria and the review and selection procedures contained in NOAA's June 30, 2005, omnibus notice are applicable to this solicitation and are as follows:

A. Evaluation Criteria for Projects

Proposals will be evaluated using the standard NOAA evaluation criteria. Various questions under each criterion are included to ensure that the applicant includes information that NOAA will consider important during the evaluation, in addition to any other information provided by the applicant.

1. Importance and/or relevance and applicability of proposed project to the program goals (25 percent): This ascertains whether there is intrinsic value in the proposed work and/or relevance to NOAA, Federal, regional, State, or local activities.

• Does the proposal include research goals and projects that address the critical issues identified in NOAA's 5-year Research Plan, NOAA's Strategic Plan, and the priorities described in the federal funding opportunity announcement published at http://www.grants.gov?

• Is there a demonstrated commitment (in terms of resources and facilities) to enhance existing NOAA and CI resources to foster a long-term collaborative research environment/culture?

• Is there a strong education program with established graduate degree programs in NOAA-related sciences that also encourage student participation in NOAA-related research studies?

• Will most of the staff at the CI be located near a NOAA facility, particularly the Great Lakes Environmental Research Laboratory in Ann Arbor, Michigan, to enhance collaborations with NOAA?

2. Technical/scientific merit (30 percent): This assesses whether the approach is technically sound and/or innovative, if the methods are appropriate, and whether there are clear project goals and objectives.

• Does the project description include a summary of clearly stated goals to be achieved during the five-year period that reflect NOAA's strategic plan and goals?

• Does the CI involve partnerships with other universities or research institutions, including Minority Serving Institutions and universities with strong departments that can contribute to the proposed activities of the CI?

3. Overall qualifications of applicants (30 percent): This ascertains whether the applicant possesses the necessary education, experience, training, facilities, and administrative resources to accomplish the project.

• If the institution(s) and/or principal investigators have received current or recent NOAA funding, is there a demonstrated record of outstanding performance working with NOAA scientists on research projects?

• Is there internationally recognized expertise within the appropriate disciplines needed to conduct the collaborative/interdisciplinary research described in the proposal?

• Is there a well-developed business plan that includes fiscal and human resource management as well as strategic planning and accountability?

• Are there any unique capabilities in a mission-critical area of research for NOAA?

• Has the applicant shown a substantial investment to the NOAA partnership, as demonstrated by the amount of the cost sharing contribution?

4. Project costs (5 percent): The budget is evaluated to determine if it is realistic and commensurate with the project needs and time-frame.

5. Outreach and education (10 percent): NOAA assesses whether this project provides a focused and effective education and outreach strategy regarding NOAA's mission to protect the Nation's natural resources.

B. Review and Selection Process

An initial administrative review/screening is conducted to determine compliance with requirements/completeness. All proposals will be evaluated and individually ranked in accordance with the assigned weights of the above evaluation criteria by an independent peer panel review. At least three experts, who may be Federal or non-Federal, will be used in this process. If non-Federal experts participate in the review process, each expert will submit an individual review and there will be no consensus opinion. The merit reviewers' ratings are used to produce a rank order of the proposals. The Selection Official selects proposals after considering the peer panel reviews and selection factors listed below. In making the final selections, the Selecting Official will award in rank order unless the proposal is justified to be selected out of rank order based upon one or more of the selection factors.

C. Selection Factors

The merit review ratings shall provide a rank order to the Selecting Official for final funding recommendations. The Selecting Official shall award in the rank order unless the proposal is justified to be selected out of rank order based upon one or more of the following factors:

1. Availability of funding.

2. Balance/distribution of funds:

a. Geographically.

b. By type of institutions.

c. By type of partners.

d. By research areas.

e. By project types.

3. Whether this project duplicates other projects funded or considered for funding by NOAA or other Federal agencies.

4. Program priorities and policy factors.

5. Applicant's prior award performance.

6. Partnerships and/or participation of targeted groups.

7. Adequacy of information necessary for NOAA staff to make a NEPA determination and draft necessary documentation before recommendations for funding are made to the Grants Officer.

Applicants must comply with all requirements contained in the full funding opportunity announcements for each project competition in this announcement.

Universal Identifier: Applicants should be aware that they are required to provide a Dun and Bradstreet Data Universal Numbering System (DUNS) number during the application process. See the October 30, 2002 Federal Register, Vol. 67, No. 210, pp. 66177-66178 for additional information. Organizations can receive a DUNS number at no cost by calling the dedicated toll-free DUNS Number request line at 1-866-705-5711 or via the Internet (http://www.dunandbradstreet.com).

National Environmental Policy Act (NEPA): NOAA must analyze the potential environmental impacts, as required by the National Environmental Policy Act (NEPA), for applicant projects or proposals which are seeking NOAA Federal funding opportunities. Detailed information on NOAA compliance with NEPA can be found at NOAA's NEPA Web site, http://www.nepa.noaa.gov/, and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register notice of December 30, 2004 (69 FR 78389) are applicable to this solicitation.

Limitation of Liability: Funding for years 2-5 of the Cooperative Institute is contingent upon the availability of appropriated funds. In no event will NOAA or the Department of Commerce be responsible for application preparation costs if these programs fail to receive funding or are cancelled because of other agency priorities. Publication of this announcement does not oblige NOAA to award any specific project or to obligate any available funds.

Paperwork Reduction Act: This notification involves collection of information requirements subject to the Paperwork Reduction Act. The use of Standard Forms 424, 424A, 424B, and SF-LLL and CD-346 has been approved by the Office of Management and Budget (OMB) respectively under control numbers 0348-0043, 0348-0044, 0348-0040, and 0348-0046 and 0605-0001. Notwithstanding any other provision of law, no person is required to respond to, nor shall any person be subject to a penalty for failure to comply with, a collection of information subject to the requirements of the PRA unless that collection of information displays a currently valid OMB control number.

Executive Order 12866: It has been determined that this notice is not significant for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for rules concerning public property, grants, benefits, and contracts (5 U.S.C. 553(a)(2)).

Because notice and opportunity for comments are not required pursuant to U.S.C. 553 or any other law, the analytical requirements of the Regulatory Flexibility Act (5 U.S.C. 601 et seq.) are inapplicable. Therefore, a regulatory flexibility analysis is not required and none has been prepared.

Mark Brown,
Chief Financial Officer, OAR, National Oceanic and Atmospheric Administration.

[FR Doc. 06-6266 Filed 7-17-06; 8:45 am]

BILLING CODE 3510-KD-P